DEPARTMENT OF ENERGY

Federal Energy Regulatory Commission

Combined Notice of Filings #1

Take notice that the Commission received the following electric rate filings:

Docket Numbers: ER19-465-001.

Applicants: Midcontinent Independent System Operator, Inc.

Description: Compliance filing: 2019-05-01_Response Letter to Order 841 Compliance to be effective 5/1/2019.

Filed Date: 5/1/19.

Accession Number: 20190501-5401.

Comments Due: 5 p.m. ET 5/22/19.

Docket Numbers: ER19-467-001.

Applicants: New York Independent System Operator, Inc.

Description: Compliance filing: Response to FERC questions on ESRs (Order No. 841) to be effective N/A.

Filed Date: 5/1/19.

Accession Number: 20190501-5404.

Comments Due: 5 p.m. ET 5/22/19.

Docket Numbers: ER19-468-001.

Applicants: California Independent System Operator Corporation.

Description: Compliance filing: 2019-05-01 Response to Deficiency Letter—Compliance with Order No. 841 to be effective N/A.

Filed Date: 5/1/19.

Accession Number: 20190501-5395.

Comments Due: 5 p.m. ET 5/22/19.

Docket Numbers: ER19-469-001.

Applicants: PJM Interconnection, L.L.C.

Description: Compliance filing: Response to 4/1/2019 Letter Req Additional Information re Order No. 841 to be effective 12/3/2019.

Filed Date: 5/1/19.

Accession Number: 20190501-5390.

Comments Due: 5 p.m. ET 5/22/19.

Docket Numbers: ER19-470-001.

Applicants: ISO New England Inc., Eversource Energy Service Company (as agent).

Description: Compliance filing: Response to April 1, 2019 Letter Re: Compliance Filing for Order No. 841 to be effective 12/3/2019.

Filed Date: 5/1/19.

Accession Number: 20190501-5403.

Comments Due: 5 p.m. ET 5/22/19.

Docket Numbers: ER19-1467-001.

Applicants: Arizona Public Service Company.

Description: Tariff Amendment: Supplemental Filng to Cancellation of Service Agreement No. 352 to be effective 5/28/2019.

Filed Date: 5/1/19.

Accession Number: 20190501-5391.

Comments Due: 5 p.m. ET 5/22/19.

Docket Numbers: ER19-1755-000.

Applicants: Arizona Public Service Company.

Description: § 205(d) Rate Filing: Rate Schedule No. 33—WAPA Triangle Agreement_Exhibit A Revision No. 53 to be effective 7/1/2019.

Filed Date: 5/1/19.

Accession Number: 20190501-5384.

Comments Due: 5 p.m. ET 5/22/19.

Docket Numbers: ER19-1756-000.

Applicants: NorthWestern Corporation.

Description: § 205(d) Rate Filing: Montana OATT Formula Rate (Part 1) to be effective 7/1/2019.

Filed Date: 5/1/19.

Accession Number: 20190501-5392.

Comments Due: 5 p.m. ET 5/22/19.

Docket Numbers: ER19-1757-000.

Applicants: Southern California Edison Company.

Description: § 205(d) Rate Filing: SCE Recollation of WDAT Filing 8 of 9 to be effective 5/1/2019.

Filed Date: 5/1/19.

Accession Number: 20190501-5394.

Comments Due: 5 p.m. ET 5/22/19.

Docket Numbers: ER19-1758-000.

Applicants: Southern California Edison Company.

Description: § 205(d) Rate Filing: SCE Recollation of WDAT Filing 9 of 9 to be effective 5/1/2019.

Filed Date: 5/1/19.

Accession Number: 20190501-5399.

Comments Due: 5 p.m. ET 5/22/19.

Docket Numbers: ER19-1759-000.

Applicants: PJM Interconnection, L.L.C.

Description: § 205(d) Rate Filing: Original ICSA, SA No. 5189; Queue No. AB2-040 to be effective 9/10/2018.

Filed Date: 5/1/19.

Accession Number: 20190501-5400.

Comments Due: 5 p.m. ET 5/22/19.

Docket Numbers: ER19-1760-000.

Applicants: Southern California Edison Company.

Description: § 205(d) Rate Filing: SCE Recollation of Rate Schedules to be effective 5/1/2019.

Filed Date: 5/1/19.

Accession Number: 20190501-5402.

Comments Due: 5 p.m. ET 5/22/19.

Docket Numbers: ER19-1761-000.

Applicants: Southern California Edison Company.

Description: § 205(d) Rate Filing: SCE Recollation of WDAT Filing 5 of 9 to be effective 5/1/2019.

Filed Date: 5/2/19.

Accession Number: 20190502-5003.

Comments Due: 5 p.m. ET 5/23/19.

Docket Numbers: ER19-1762-000.

Applicants: Electric Energy, Inc.

Description: Compliance filing: compliance 2019 Attachment M to be effective 5/2/2019.

Filed Date: 5/2/19.

Accession Number: 20190502-5005.

Comments Due: 5 p.m. ET 5/23/19.

Docket Numbers: ER19-1763-000.

Applicants: Southwest Power Pool, Inc.

Description: § 205(d) Rate Filing: 3446R1 Group NIRE/SPS Facilities Construction Agreement to be effective 7/1/2019.

Filed Date: 5/2/19.

Accession Number: 20190502-5015.

Comments Due: 5 p.m. ET 5/23/19.

Docket Numbers: ER19-1764-000.

Applicants: Applied Energy LLC

Description: Tariff Cancellation: MBR Tariff Cancellation to be effective 5/3/2019.

Filed Date: 5/2/19.

Accession Number: 20190502-5057.

Comments Due: 5 p.m. ET 5/23/19.

Docket Numbers: ER19-1765-000.

Applicants: CSOLAR IV South, LLC.

Description: § 205(d) Rate Filing: Cost True-Up Amendment to Co-Tenancy and Shared Use Agreement to be effective 5/3/2019.

Filed Date: 5/2/19.

Accession Number: 20190502-5061.

Comments Due: 5 p.m. ET 5/23/19.

Docket Numbers: ER19-1766-000.

Applicants: CSOLAR IV South, LLC.

Description: § 205(d) Rate Filing: New Substation Facilities Agreement to be effective 5/3/2019.

Filed Date: 5/2/19.

Accession Number: 20190502-5062.

Comments Due: 5 p.m. ET 5/23/19.

Docket Numbers: ER19-1768-000.

Applicants: Duquesne Light Company.

Description: Tariff Cancellation: Notice of Cancellation of Elrama Connection and Site Agreement to be effective 12/31/2014.

Filed Date: 5/2/19.

Accession Number: 20190502-5074.

Comments Due: 5 p.m. ET 5/23/19.

Docket Numbers: ER19-1769-000.

Applicants: Southern California Edison Company.

Description: § 205(d) Rate Filing: SCE Recollation of TO Tariff Filing 2a of 3 to be effective 5/1/2019.

Filed Date: 5/2/19.

Accession Number: 20190502-5077.

Comments Due: 5 p.m. ET 5/23/19.

Docket Numbers: ER19-1770-000.

Applicants: Entergy Arkansas, LLC, Entergy Louisiana, LLC, Entergy Mississippi, LLC, Entergy New Orleans, LLC, Entergy Texas, Inc.

Description: Post-Retirement Benefits Other than Pensions for 2018 Test Year of Entergy Arkansas, Inc., et al.

Filed Date: 5/1/19.

Accession Number: 20190501-5447.

Comments Due: 5 p.m. ET 5/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2019.
Kimberly D. Bose,
Secretary.

[FR Doc. 2019-09482 Filed 5-8-19; 8:45 am]

BILLING CODE 6717-01-P